DEPARTMENT OF TRANSPORTATION

National Highway Traffic Safety Administration

[Docket No. NHTSA-2014-0033]

Reports, Forms, and Recordkeeping Requirements

AGENCY: National Highway Traffic Safety Administration (NHTSA), U.S. Department of Transportation (DOT).

ACTION: Notice and request for public comments on a proposed collection of information.

SUMMARY: Before a Federal agency can collect certain information from the public, it must receive approval from the Office of Management and Budget (OMB). Under procedures established by the Paperwork Reduction Act of 1995, before seeking OMB approval, Federal agencies must solicit public comment on proposed collections of information. NHTSA invites public comments about our intention to request OMB approval for a new collection of information. The collection involves eligibility, demographic, scheduling preferences, and debriefing questionnaires. The information will be used to recruit participants for a research study that focuses on driver response with various automatic transmission gear selector designs during routine and emergency simulated driving scenarios.

DATES: Written comments must be received on or before July 28, 2014.

ADDRESS: You may submit comments identified by the Docket No. NHTSA-2014-0033 through one of the following methods:

Federal eRulemaking Portal: Go to http://www.regulations.gov. Follow the instructions for submitting comments on the electronic docket site by clicking “Help” or “FAQs.”

Mail or Hand Delivery: Docket Management Facility, M-30, U.S. Department of Transportation, 1200 New Jersey Avenue SE., West Building Ground Floor, Room W12-140, Washington, DC 20590. Hand delivered documents accepted between 9 a.m. and 5 p.m. Eastern Time, Monday through Friday, except Federal Holidays. Telephone: (202) 366-9826.

Fax: (202) 493-2251

Instructions: Each submission must include the Agency name and the Docket number for this proposed collection of information. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000

(65 FR 19477-78) or you may visit http://www.dot.gov/privacy.html.

FOR FURTHER INFORMATION CONTACT: For background documents, contact Lisa Gavin, Office of Crash Avoidance Standards (NVS-121), U.S. Department of Transportation, National Highway Traffic Safety Administration, West Building, W43-432, 1200 New Jersey Avenue SE., Washington, DC 20590. Ms. Gavin can be reached at (202) 366-9291.

SUPPLEMENTARY INFORMATION: Under the Paperwork Reduction Act of 1995, before an agency submits a proposed collection of information to OMB for approval, it must publish a document in the Federal Register providing a 60-day comment period and otherwise consult with members of the public and affected agencies concerning each proposed collection of information. OMB has promulgated regulations describing what must be included in such a document. Under OMB's regulation (at 5 CFR 1320.8(d)), an agency must request public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the following proposed collection of information:

Title: Recruitment and Debriefing of Human Subjects for Research Related to Motor Vehicle Gear Selection Controls

Type of Request: New information collection.

OMB Control Number: 2127-New.

Form Number: N/A.

Requested Expiration Date of Approval: Upon completion of the study.

Abstract: The introduction of electronically-controlled transmissions has allowed much greater freedom in the design of driver interfaces, with the result that drivers are being confronted with new and different types of gear selector controls—joysticks, push buttons, rotary knobs, etc. This information collection is incidental to the recruitment of participants for human-factors studies designed to measure the ability of drivers to adapt to unfamiliar types of gear-selection controls. There is no known published usability research related to these new types of driver interfaces.

The proposed studies will examine driver response to non-traditional gear selector configurations in routine and emergency simulated driving scenarios, noting driver confusion, distraction and unintended consequences due to the unconventional gear selector configuration. The research method consists of driving simulations to collect objective and subjective data about six different gear selector types. Approximately 500 drivers will respond to the request for participants. It is estimated that of the 500 respondents, 360 will ultimately be recruited and participate. The estimated burden hours were calculated for the pre and post experiment questionnaires and for performing the driving tasks for the 500 respondents accordingly.

Participants will be tested individually in a driving simulator located at the Volpe National Transportation Systems Center (Volpe Center), which will conduct this research under an Intra-Agency Agreement (IAA) with NHTSA. The information being collected consists of that required for scheduling appointments and for balancing the subject sample across age groups, gender, and previous driving experience with various motor vehicle gear selector configurations. The experimental data will contain the demographic and past-experience descriptors for each participant, but no personally identifiable information. During or after the experimental sessions, participants may be queried regarding their perceptions and preferences about various aspects of gear-selection controls.

Description of the Need for the Information and Proposed Use of the Information: The collection of information consists of: (1) An eligibility questionnaire, (2) a demographic questionnaire; (3) scheduling preferences; and (4) post-experiment questionnaires. The information to be collected will be used to:

• Eligibility questionnaire will be used to obtain self-reported driving history information. Individuals interested in participating in the study will be asked to provide information about their driving history (e.g., years of driving experience, daily driving usage, familiarity with different types of gear selectors). Individuals will be excluded from participating in the experiment if they do not have a valid driver license.

• Demographic questionnaire will be used to obtain demographic information to confirm that the study group includes participants from various age groups and both genders.

• Scheduling preferences will be used to establish a convenient time for the participants to visit the Volpe Center.

• Post-experiment questionnaire will be used to gather information about drivers' beliefs and attitude towards each gear selector configuration tested, and to explore respondent knowledge of how a motor vehicle will likely respond when shifted to positions other than Drive at highway speed. These questionnaires will also be used to assess perceived usability of the various gear selector configurations in terms of acceptance and satisfaction, as well as willingness to have a particular gear selector configuration in their vehicle.

Respondents: drivers with a valid driver license.

Estimated Number of Respondents: 500.

Estimated Number of Respondents Selected: 360.

Estimated Total Annual Burden: 595 hours (1 hour and 38 minutes per selected respondent and 3 minutes per respondent not selected.)

Public Comments Invited: You are asked to comment on any aspect of this information collection, including (a) Whether the proposed collection of information is necessary for the agency's performance of its functions; (b) the accuracy of the estimated burden; (c) ways for the agency to enhance the quality, utility and clarity of the information to be collected; and (d) ways that the burden could be minimized without reducing the quality of the collected information. The agency will summarize your comments and the agency's responses in the request for OMB clearance of this information collection.

Authority: The Paperwork Reduction Act of 1995, 44 U.S.C. chap. 35; 49 U.S.C. 30181-83; under authority delegated in 49 CFR 1.95

Claude H. Harris,
Acting Associate Administrator for Rulemaking.

[FR Doc. 2014-12096 Filed 5-23-14; 8:45 am]

BILLING CODE 4910-59-P